DEPARTMENT OF DEFENSE

Department of the Air Force

[Docket ID: USAF-2008-0018]

Privacy Act of 1974; System of Records

AGENCY: Department of the Air Force, Department of Defense.

ACTION: Notice To Add a System of Records.

SUMMARY: The Department of the Air Force is proposing to add a system of records to its inventory of record systems subject to the Privacy Act of 1974 (5 U.S.C. 552a), as amended.

DATES: The changes will be effective on September 29, 2008 unless comments are received that would result in a contrary determination.

ADDRESSES: Send comments to the Air Force Privacy Act Office, Office of Warfighting Integration and Chief Information Officer, SAF/XCPPI, 1800 Air Force Pentagon, Suite 220, Washington, DC 20330-1800.

FOR FURTHER INFORMATION CONTACT: Mr. Tommy Lee at (703) 696-6518.

SUPPLEMENTARY INFORMATION: The Department of the Air Force notices for systems of records subject to the Privacy Act of 1974 (5 U.S.C. 552a), as amended, have been published in the Federal Register and are available from the address above.

The proposed systems reports, as required by 5 U.S.C. 552a(r) of the Privacy Act of 1974, as amended, were submitted on August 22, 2008, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: August 22, 2008.
Patricia L. Toppings,
OSD Federal Register Liaison Officer, Department of Defense.

F0 36 USSC A

SYSTEM NAME:

The Service Chiefs' Program Records.

SYSTEM NAME:

Headquarters, United States Strategic Command (USSTRATCOM)/J8, Futures Capabilities Division, 901, SAC Blvd., Offutt AFB, NE 68113-6800 and Defense Advanced Research Projects Agency (DARPA), 3701 North Fairfax Drive, Arlington, VA 22203-1714.

CATEGORIES OF INDIVIDUALS COVERED BY THE SYSTEM:

Military personnel in grades 0-3 through 0-5 assigned to Headquarters, United States Strategic Command (USSTRATCOM), USSTRATCOM Joint Forces Component Commands, Global Innovation Strategy Center or the Center for Weapons of Mass Destruction who apply for the USSTRATCOM-DARPA Intern Program.

CATEGORIES OF RECORDS IN THE SYSTEM:

Individual's name, Social Security Number (SSN), mailing address, military applications, student academic records including course completion records, locator information, and related training/educational records.

AUTHORITY FOR MAINTENANCE OF THE SYSTEM:

5 U.S.C. 301, Departmental Regulations; 10 U.S.C. 8013, Secretary of the Air Force; 5 U.S.C. 4103, Establishment of Training Programs; USSTRATCOM Instruction 234-1, USSTRATCOM-DARPA Intern Program; and E.O. 9397 (SSN).

PURPOSE(S):

To determine applicant eligibility; record attendance, training and completion or elimination; serve as a locator of students and provide a source of statistical information.

ROUTINE USES OF RECORDS MAINTAINED IN THE SYSTEM INCLUDING CATEGORIES OF USERS AND THE PURPOSES OF SUCH USE:

In addition to those disclosures generally permitted under 5 U.S.C. 552a(b) of the Privacy Act of 1974, these records or information contained therein may be specifically disclosed outside the Department of Defense as a routine use pursuant to 5 U.S.C. 552a(b)(3) as follows:

The “Blanket Routine Uses” published at the beginning of the Air Force's compilation of systems of records notices apply to this system.

POLICIES AND PRACTICES FOR STORING, RETRIEVING, ACCESSING, RETAINING, AND DISPOSING OF RECORDS IN THE SYSTEM:

STORAGE:

Paper records in file folders and electronic storage media.

RETRIEVABILITY:

Records are retrieved by the applicant/student's name, and/or Social Security Number (SSN).

SAFEGUARDS:

Paper records are kept in file cabinets located in a secured area and building. Electronic records are stored on computer systems employing software programs that monitor network traffic to identify unauthorized attempts to upload or change information. Access to computer systems is password and/or Public Key Infrastructure controlled. The building is under armed guard control 24 hours per day and video camera monitoring 24 hours per day.

RETENTION AND DISPOSAL:

Records are retained until the individual has completed the program. Paper records are destroyed by shredding, macerating, burning, or tearing to preclude reconstruction. Computer records are disposed of by deleting the information from the database, degaussing, or over-writing.

SYSTEM MANAGER AND ADDRESS:

Chief, Capability Resource Analysis Division, USSTRATCOM/J81, 901 SAC Blvd., Offutt AFB, NE 68113-6800.

NOTIFICATION PROCEDURE:

Individuals seeking to determine whether information about themselves is contained in this system of records should address written inquiries to the Chief, Capability Resource Analysis Division, USSTRATCOM/J81, 901 SAC Blvd., Offutt AFB, NE 68113-6800.

Inquiries should contain the individual's full name, mailing address, and bear the signature of the requester.

RECORD ACCESS PROCEDURES:

Individuals seeking access to information about themselves should address written inquiries to the Chief, Capability Resource Analysis Division, USSTRATCOM/J81, 901 SAC Blvd., Offutt AFB, NE 68113-6800.

Inquiries should contain the individual's full name, mailing address, and bear the signature of the requester.

CONTESTING RECORDS PROCEDURES:

The Air Force rules for accessing records, and for contesting contents and appealing initial agency determinations are published in Air Force Instruction 33-332; 32 CFR part 806b; or may be obtained from the system manager.

RECORD SOURCE CATEGORIES:

Contents of the records are obtained from the individual about whom the record pertains and from supervisors of those personnel.

EXEMPTIONS CLAIMED FOR THE SYSTEM:

None.

[FR Doc. E8-20005 Filed 8-27-08; 8:45 am]

BILLING CODE 5001-06-P